FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than September 15, 2020.

A. Federal Reserve Bank of St. Louis (David L. Hubbard, Senior Manager) P.O. Box 442, St. Louis, Missouri 63166-2034. Comments can also be sent electronically to Comments.applications@stls.frb.org:

1. Susan and Kent Wunderlich Family Trust, Philip S. Wunderlich and Gary Wunderlich, Jr., as co-trustees, and a trust established for a minor child, Gary Wunderlich, Jr., as trustee, all of Memphis, Tennessee; to become members of the Wunderlich Family Group, a group acting in concert, and to acquire voting shares of Financial FedCorp, Inc., and thereby indirectly acquire voting shares of Financial Federal Bank, both of Memphis, Tennessee.

In addition, The Gary K. Wunderlich III Trust, The Madison Graves Wunderlich Trust, Gary Wunderlich, Jr., as trustee for both trusts, The Philip S. Wunderlich, Jr. Trust, The Elizabeth T. Wunderlich Trust, and a trust established for a minor child, Philip Wunderlich, as trustee for all three trusts, and all of Memphis, Tennessee; as members of the Wunderlich Family Group, a group acting in concert, to retain voting shares of Financial FedCorp, Inc., and thereby indirectly retain voting shares of Financial Federal Bank.

Board of Governors of the Federal Reserve System, August 26, 2020.
Yao-Chin Chao,
Assistant Secretary of the Board.

[FR Doc. 2020-19157 Filed 8-28-20; 8:45 am]

BILLING CODE 6210-01-P